NUCLEAR REGULATORY COMMISSION

[Docket No. 040-038415; NRC-2023-0090]

Rare Element Resources, Inc.; Upton Pilot Project

AGENCY: Nuclear Regulatory Commission.

ACTION: License; issuance.

SUMMARY: The U.S. Nuclear Regulatory Commission (NRC) has issued Source Material License No. SUA-1603 to Rare Element Resources, Inc. (RER, the licensee) for its possession, and storage of source material in a pilot project for the recovery of rare earth elements (REE). The pilot project, partially funded by the U.S. Department of Energy, is being conducted at a location in Upton, Wyoming to demonstrate the effectiveness of the licensee's proprietary process to recover rare earth element such as Neodymium-Praseodymium (NdPr) and other rare earth oxides at high purity levels. The project is scheduled to operate for approximately one year, processing approximately 1000 tons of material. Waste generated as a result of processing will contain greater than 99 percent of the radioactive components and will be treated and solidified onsite and then shipped offsite to a licensed low level waste facility. The site will be decommissioned at the end of the pilot project.

DATES: This document was published in the Federal Register on August 3, 2023

ADDRESSES: Please refer to Docket ID NRC-2023-0090 when contacting the NRC about the availability of information regarding this document. You may obtain publicly available information related to this document using any of the following methods:

• Federal Rulemaking website: Go to https://www.regulations.gov and search for Docket ID NRC-2023-0090. Address questions about Docket IDs in Regulations.gov to Stacy Schumann; telephone: 301-415-0624; email: Stacy.Schumann@nrc.gov. For technical questions, contact the individual listed in the “For Further Information Contact” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Martha Poston-Brown, Office of Nuclear Material Safety and Safeguards, U.S. Nuclear Regulatory Commission, Washington, DC 20555-0001, telephone: 817-200-1181; email: Martha.Poston-Brown@nrc.gov.

SUPPLEMENTARY INFORMATION:

I. Discussion

The NRC has issued Source Material License No. SUA-1603 to RER for its possession, and storage of source material in a pilot project for the recovery of REE as a pilot project. RER's pilot project shall be as specified in its license and license application documents as amended and modified.

The record of decision for the NRC decision to approve Rare Element Resources, Inc. license application for the Upton Pilot Project and issue Materials License SUA-1603 is available in Section II of this notice.

The NRC considers the entire publicly available record for a license application to constitute the agency's record of decision. Documents related to the application carry NRC Docket ID NRC-2023-0090. These documents for the Rare Element Resources, Inc. license include the Safety Evaluation Report; and the Environmental Assessment.

Rare Element Resources, Inc.'s request for a source materials license was previously noticed in the Federal Register on May 15, 2023, 88 FR 31041, with a notice of an opportunity to request a hearing. No Hearing requests were received. The NRC's Environmental Assessment and Finding of No Significant Impact were also previously noticed in the Federal Register on July 27, 2023 (88 FR 484940).

In accordance with 10 CFR 2.390 of the NRC's “Rules of Practice,” the details with respect to this action, including the safety evaluation report and accompanying documentation and license, are available electronically at the NRC's Electronic Reading Room at https://www.nrc.gov/reading-rm/adams.html. From this site, you can access the NRC's Agencywide Document Access and Management System (ADAMS), which provides text and image files of the NRC's public documents.

II. Availability of Documents

The documents identified in the following table are available to interested persons through ADAMS.

Document description | ADAMS accession No.
Rare Element Resources Inc, Demonstration License Application, dated May 4, 2022 | ML22130A014.
Rare Element Resources, Inc, response to request for supplemental information, dated August 26, 2022 | ML22238A107.
Rare Element Resources Inc, resubmittal in response to request for supplemental information, dated September 13, 2022 | ML22258A140.
Rare Element Resources Inc, License Application, Technical Report, and Environmental Report, dated September 30, 2022 | ML22256A319 (Package).
NRC response to request for additional information (RAI) environmental information, dated February 23, 2023 | ML23044A097.
NRC response to request additional information (RAI)—technical information, dated March 13, 2023 | ML23068A307 (Package).
Rare Element Resources, Inc, response to NRC RAI—environmental information, dated March 21, 2023 | ML23082A306.
Rare Element Resources, Inc, response to NRC RAI—safety evaluation, dated April 7, 2023 | ML23097A072.
Environmental Assessment for Rare Element Resources, Inc., July 2023 | ML23145A039.
Safety Evaluation Report for Rare Element Resources, Inc., July 2023 | ML23173A117.
Source Material License for Rare Element Resources, Inc., dated July 27, 2023. | ML23173A116.

Dated: July 31, 2023.
For the Nuclear Regulatory Commission.
Randolph W. Von Till,
Chief, Uranium Recovery and Materials Decommissioning Branch, Division of Decommissioning, Uranium Recovery and Waste Programs, Office of Nuclear Material Safety and Safeguards.

[FR Doc. 2023-16538 Filed 8-2-23; 8:45 am]

BILLING CODE 7590-01-P